Memorandum of January 26, 2009

State of California Request for Waiver Under 42 U.S.C. 7543(b), the Clean Air Act

Memorandum for the Administrator of the Environmental Protection Agency

Under the Clean Air Act (42 U.S.C. 7401-7671q), the Environmental Protection Agency (EPA) sets emissions standards for new motor vehicles. California may also adopt standards for new motor vehicles if the Administrator of the EPA, based on criteria set out in the statute, waives the general statutory prohibition on State adoption or enforcement of emissions standards. Other States may adopt emissions standards for new motor vehicles if they are identical to the California standards for which a waiver has been granted and comply with other statutory criteria.

For decades, the EPA has granted the State of California such waivers. The EPA's final decision to deny California's application for a waiver permitting the State to adopt limitations on greenhouse gas emissions from motor vehicles was published in the Federal Register on March 6, 2008.

In order to ensure that the EPA carries out its responsibilities for improving air quality, you are hereby requested to assess whether the EPA's decision to deny a waiver based on California's application was appropriate in light of the Clean Air Act. I further request that, based on that assessment, the EPA initiate any appropriate action.

This memorandum is not intended to, and does not, create any right or benefit, substantive or procedural, enforceable at law or in equity by any party against the United States, its departments, agencies, or entities, its officers, employees, or agents, or any other person.

You are hereby authorized and directed to publish this memorandum in the Federal Register.

THE WHITE HOUSE,

Washington, January 26, 2009

[FR Doc. E9-1939

Filed 1-27-09; 8:45 am]

Billing code 6560-50-P